DEPARTMENT OF STATE

[Public Notice: 6247]

30-Day Notice of Proposed Information Collection: Form # DS-1950, Department of State Application for Employment, OMB Control Number 1405-0139

ACTION: Notice of request for public comment and submission to OMB of proposed collection of information.

SUMMARY: The Department of State has submitted the following information collection request to the Office of Management and Budget (OMB) for approval in accordance with the Paperwork Reduction Act of 1995.

• Title of Information Collection: Department of State Application for Employment.

• OMB Control Number: 1405-0139.

• Type of Request: Extension of a currently approved collection.

• Originating Office: Bureau of Human Resources, Office of Recruitment, Examination, Employment (HR/REE).

• Form Number: DS-1950.

• Respondents: U.S. Citizens seeking entry into certain Department of State Foreign Service positions and individuals, sophomore through graduate level college and university students, seeking participation in the Department's student programs.

• Estimated Number of Respondents: 20,000.

• Estimated Number of Responses: 20,000.

• Average Hours Per Response: ½ hour.

• Total Estimated Burden: 10,000.

• Frequency: On Occasion.

• Obligation to Respond: Required to Obtain a Benefit.

DATES: Submit comments to the Office of Management and Budget (OMB) for up to 30 days from June 10, 2008.

ADDRESSES: Direct comments and questions to Katherine Astrich, the Department of State Desk Officer in the Office of Information and Regulatory Affairs at the Office of Management and Budget (OMB), who may be reached at 202-395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: You may obtain copies of the proposed information collection and supporting documents from Marvin E. Moore, Bureau of Human Resources, Recruitment Division, Student Programs, U.S. Department of State, Washington, DC 20520, who may be reached on 202-261-8869 or by e-mail at MooreME1@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond,

Abstract of Proposed Collection

The DS-1950 is used by individuals to apply for certain excepted jobs at the Department of State such as Foreign Service specialist and student intern positions.

Methodology

Information from the DS-1950 will be collected via mail, fax, and electronic submission.

Dated: May 28, 2008.
Ruben Torres,
Director, Human Resources Executive (HR/EX), Department of State.

[FR Doc. E8-12980 Filed 6-9-08; 8:45 am]

BILLING CODE 4710-36-P